NUCLEAR REGULATORY COMMISSION

[Docket Nos. 52-029-COL and 52-030-COL ASLBP No. 09-879-04-COL-BD01]

Progress Energy Florida, Inc.; Levy County Nuclear Power Plant, Units 1 and 2; Notice of Atomic Safety and Licensing Board Reconstitution

Pursuant to 10 CFR 2.313(c) and 2.321(b), the Atomic Safety and Licensing Board in the above-captioned Levy County Nuclear Power Plant, Units 1 and 2 combined operating license proceeding is hereby reconstituted by appointing Administrative Judge E. Roy Hawkens to serve as Chairman in place of Administrative Judge Alex S. Karlin.

All correspondence, documents, and other materials shall continue to be filed in accordance with the NRC E-Filing rule. See 10 CFR 2.302 et seq.

Issued at Rockville, Maryland, this 16th day of January 2015.
E. Roy Hawkens,
Chief Administrative Judge, Atomic Safety and Licensing Board Panel.

[FR Doc. 2015-01186 Filed 1-22-15; 8:45 am]

BILLING CODE 7590-01-P